DEPARTMENT OF AGRICULTURE

[Docket ID: USDA-2023-0009]

Federal Strategy To Advance Measurement and Monitoring Greenhouse Gas Measurement and Monitoring for the Agriculture and Forest Sectors

AGENCY: Office of Chief Economist, Department of Agriculture (USDA).

ACTION: Request for information.

SUMMARY: The draft interagency report entitled, Federal Strategy to Advance Greenhouse Gas Measurement and Monitoring for the Agriculture and Forest Sectors (Strategy), has been published on the USDA website and is available at: https://www.usda.gov/sites/default/files/documents/Draft-Federal-Ag-and-Forest-MMRV-Strategy.pdf and is also available on http://www.regulations.gov. This is a Request for Information (RFI) issued on behalf of the Administration's Greenhouse Gas Monitoring and Measurement Interagency Working Group (GHG IWG), USDA's Office of the Chief Economist (OCE) requests public comment broadly from individuals, U.S. industry, universities, non-profit organizations, Federal Funded Research and Development Centers (FFRDCs), and other U.S. Federal, State, local, Tribal government agencies. This RFI does not constitute a commitment, implied or otherwise, that USDA or other agencies of the U.S. Government will take action in this matter. Comments received will inform the GHG IWG, and agencies planning and implementation of an agriculture and forestry monitoring, measurement, reporting, and verification framework and near-term activities, including discussions on potential partnerships.

DATES: We will consider comments received on or before 11:59 p.m. (ET) on August 11, 2023.

ADDRESSES: We invite you to submit comments on this notice. You may submit comments by going to http://www.regulations.gov and searching for Docket ID: USDA-2023-0009. Follow the online instructions for submitting comments.

Instructions for submitting comments are provided in the Questions section below.

FOR FURTHER INFORMATION CONTACT: Any questions about this notice should be sent to Mindy Selman, Office of Energy and Environmental Policy via email: mindy.selman@usda.gov, or telephone: 571-329-8711.

SUPPLEMENTARY INFORMATION:

Background. In January 2022, the Office of Science and Technology Policy, White House Climate Policy Office, and Office of Management and Budget established the Greenhouse Gas Monitoring & Measurement Interagency Working Group (GHG IWG) to enhance coordination on existing capabilities and opportunities for enhancing measurement and quantification of GHG emissions and removals. In addition to the White House offices mentioned above, the GHG IWG includes the following United States (U.S.) Federal agencies: USDA, Department of Commerce (including the National Institute of Standards and Technology (NIST) and the National Oceanic and Atmospheric Administration (NOAA)), Department of Defense (DOD), Department of Energy (DOE), Department of Interior (DOI), Department of State (State), Environmental Protection Agency (EPA), NASA, and the National Science Foundation (NSF).

The draft Federal Strategy to Advance Greenhouse Gas Measurement and Monitoring for the Agriculture and Forest Sectors (Strategy) developed by the GHG IWG outlines a framework for an integrated U.S Government (USG) approach to improving and advancing measurement, monitoring, reporting and verification (MMRV) of GHG fluxes from agriculture and forestry. The Strategy includes a strategic framework identifying elements of a comprehensive MMRV strategy. Within each framework element, the Strategy identifies strategic priorities for advancing MMRV within the agriculture and forest sectors. The Strategy is aligned with ongoing work across the USG to quantify the carbon sequestration and carbon dioxide, methane, and nitrous oxide emissions outcomes associated with activities funded through the Inflation Reduction Act (IRA). USDA received public comment on implementation of the IRA (87 FR 70770) including several questions regarding systems and strategies for quantification and will continue to ensure this ongoing work is aligned with the Strategy.

The GHG IWG is seeking public comments on the draft Strategy in recognition of the significant expertise on this topic that exists outside of government and growing interest by companies, non-governmental organizations, and local and State agencies in collaborating and/or contributing expertise, or who are customers of research, tools, data products and analyses that may result from implementation of the Strategy. A copy of the draft Strategy is posted as a separate PDF file on http://www.regulations.gov and is also available on the USDA website at https://www.usda.gov/sites/default/files/documents/Draft-Federal-Ag-and-Forest-MMRV-Strategy.pdf.

Questions

Responses to this RFI will be shared across USDA and with the GHG IWG. Respondents should focus their responses on areas where they have expertise and need not address all of the questions.

This RFI requests information on the following themes:

General Comments or Questions on the Strategy

1. What key research and data gaps or modeling and monitoring needs are most critical to address in order to advance measurement, monitoring, reporting and verification of greenhouse gases in the agriculture and forestry sector?

2. Are the proposed activities and projects in section VI of the Strategy those which would most effectively advance the administration goals outlined in the Introduction? If not, what would be?

3. Are there data or data products (e.g., conservation activity data, land management data, environmental data, etc.) available or under development that can improve the accuracy and timeliness of GHG estimates? This includes leveraging current or upcoming geospatial/remote sensing data products in quantifying GHG emissions for the agriculture and forest sectors.

4. For respondents in the agriculture and forest sectors that rely on Federal GHG inventory information and methods, how could the Federal Government's efforts be improved to meet your needs?

5. What opportunities exist for Federal agencies to partner with external entities on the strategic priorities (e.g., forest carbon monitoring, data and computation systems, methane monitoring) outlined in the draft Strategy in ways that they have not previously done? This can include leveraging existing convening or organizing bodies.

6. What verification protocols (national, subnational, or field scales) should the Federal Government be aware of to accelerate progress in GHG measurement and monitoring for forestry or agricultural GHG monitoring?

Animal Agriculture

1. What additional data not mentioned in the RFI would assist with assessing and quantifying GHG emissions from livestock emissions; what emissions estimation gap would use of these data address, and how would these data best be obtained?

2. The Federal Government plans to improve process representations as well as calibration and validation of livestock models and methods. What models or improvements would significantly improve emissions estimates from livestock?

3. As the Federal Government looks to establish research networks to synthesize findings on GHG emissions from the livestock sector, what existing networks exist and could be leveraged as part of this effort?

Croplands

1. What technologies or methods not currently used by the Federal Government could reduce the costs and improve reliability of in situ and remote sensing relevant to soil carbon measurements for use in the proposed soil carbon monitoring network?

2. What data should be reported from the soil carbon monitoring network? How will the data be useful to you?

3. Are there existing soil testing sampling methods USDA should be looking to synchronize with? What improvements or adjustments to existing technologies or methods used by the Federal Government could help improve data collection and integration into program delivery?

Forestry

1. What technologies and methods have demonstrated success in improving annual GHG estimation of forest carbon, including forest product life cycle assessments and associated long-term carbon implications, and could, with modest additional effort, be transitioned to more sustained use or scaled up?

2. What technologies and methods have demonstrated success in improving GHG estimation for urban forestry? For respondents in the urban forestry sector that rely on Federal GHG inventory information and methods, how could the Federal Government's efforts be improved to meet your needs?

Data and Data Sharing

1. What approaches should the Federal Government consider to expand access to GHG-related data and methods for GHG quantification/estimation? This includes aggregating proprietary or survey data for higher-level analysis and sharing.

2. What key gaps in data on GHG emissions from management and production methods should USDA prioritize when quantifying emissions from manure management, rice cultivation, or fertilizer application?

Responses should be limited to 4 pages maximum.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible agency or USDA TARGET Center at (202) 720-2600 or 844-433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA, and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Seth Meyer,
Chief Economist, Office of the Chief Economist, United States Department of Agriculture.

[FR Doc. 2023-14158 Filed 7-11-23; 8:45 am]

BILLING CODE 3410-GL-P